DEPARTMENT OF THE INTERIOR

Bureau of Land Management

[COF000-LLCOF00000-L19900000-XZ0000]

Notice of Meeting, Front Range Resource Advisory Council

AGENCY: Bureau of Land Management, Interior.

ACTION: Notice of public meeting.

SUMMARY: In accordance with the Federal Land Policy and Management Act and the Federal Advisory Committee Act of 1972, the U.S. Department of the Interior, Bureau of Land Management (BLM) Front Range Resource Advisory Council (RAC), will meet as indicated below.

DATES: The meeting will be held on August 8, 2012, from 9:30 p.m. to 4:30 p.m.

ADDRESSES: Bank of the West, 146 G. Street, Salida, Colorado 81201.

FOR FURTHER INFORMATION CONTACT: Denise Adamic, Front Range RAC Coordinator, BLM Royal Gorge Field Office, 3028 E. Main St., Cañon City, CO 81212. Phone: (719) 269-8553. Email: dadamic@blm.gov.

SUPPLEMENTARY INFORMATION: The 15-member Council advises the Secretary of the Interior, through the BLM, on a variety of planning and management issues associated with public land management in the BLM Front Range District, which includes the Royal Gorge Field Office (RGFO) and the San Luis Valley Field Office. Planned topics of discussion items include: Field Manager updates as well as recreation and resource management issues at the Cache Creek Placer Mining Area. There will be an afternoon field trip to Cache Creek. The public is encouraged to make oral comments to the Council at 9:45 a.m. or written statements may be submitted for the Council's consideration. Summary minutes for the RAC meetings will be maintained in the RGFO and will be available for public inspection and reproduction during regular business hours within thirty (30) days following the meeting. Previous meeting minutes and agendas are available at: www.blm.gov/co/st/en/BLM_Resources/racs/frrac/co_rac_minutes_front.html.

Helen M. Hankins,
State Director.

[FR Doc. 2012-15980 Filed 6-28-12; 8:45 am]

BILLING CODE 4310-JB-P